DEPARTMENT OF LABOR

Occupational Safety and Health Administration

[Docket No. OSHA-2011-0124]

Advisory Committee on Construction Safety and Health (ACCSH)

AGENCY: Occupational Safety and Health Administration (OSHA), Labor.

ACTION: Announcement of meetings of the Advisory Committee on Construction Safety and Health (ACCSH) and ACCSH Work Groups, and ACCSH member appointments.

SUMMARY: ACCSH will meet July 28, 2011, in Washington, DC. In conjunction with the ACCSH meeting, ACCSH Work Groups will meet July 27, 2011. This Federal Register notice also announces the appointment of individuals to ACCSH.

DATES: ACCSH meeting: ACCSH will meet from 8 a.m. to 5:30 p.m., Thursday, July 28, 2011.

ACCSH Work Group meetings: ACCSH Work Groups will meet Wednesday, July 27, 2011. (For Work Group meeting times, see the Work Group Schedule information in the SUPPLEMENTARY INFORMATION section of this notice.)

Written comments, requests to speak, speaker presentations, and requests for special accommodation: Comments, requests to address the ACCSH meeting, speaker presentations (written or electronic), and requests for special accommodations for the ACCSH and ACCSH Work Group meetings must be submitted (postmarked, sent, transmitted) by July 21, 2011.

ADDRESSES: ACCSH and ACCSH Work Group meetings: ACCSH and ACCSH Work Group meetings will be held in Room N-3437 A-C, U.S. Department of Labor, 200 Constitution Avenue, NW., Washington, DC 20210.

Submission of comments, requests to speak, and speaker presentations: Interested persons may submit comments, requests to speak at the ACCSH meeting, and speaker presentations using one of the following methods:

Electronically: You may submit materials, including attachments, electronically at http://www.regulations.gov, which is the Federal eRulemaking Portal. Follow the online instructions for submissions.

Facsimile (fax): If your submission, including attachments, does not exceed 10 pages, you may fax it to the OSHA Docket Office at (202) 693-1648.

Mail, hand delivery, express mail, messenger, or courier service: You may submit your comments, request to speak, and speaker presentation to the OSHA Docket Office, Docket No. OSHA-2011-0124, Room N-2625, U.S. Department of Labor, 200 Constitution Avenue, NW., Washington, DC 20210; telephone (202) 693-2350, (TTY (877) 889-5627). Deliveries (hand deliveries, express mail, messenger, and courier service) are accepted during the Department of Labor's and OSHA Docket Office's normal business hours, 8:15 a.m. to 4:45 p.m., E.T., weekdays.

Requests for special accommodations: Please submit requests for special accommodations to attend the ACCSH and ACCSH Work Group meetings to Ms. Veneta Chatmon, OSHA, Office of Communications, Room N-3647, U.S. Department of Labor, 200 Constitution Avenue, NW., Washington, DC 20210; telephone (202) 693-1999; e-mail chatmon.veneta@dol.gov.

Instructions: All submissions must include the Agency name and docket number for this Federal Register notice (Docket No. OSHA-2011-0124). Because of security-related procedures, submissions by regular mail may experience significant delays. Please contact the OSHA Docket Office for information about security procedures for making submissions by hand delivery, express delivery, and messenger or courier service. For additional information on submitting comments, requests to speak, and speaker presentations, see the SUPPLEMENTARY INFORMATION section of this notice.

Comments, requests to speak, and speaker presentations, including any personal information provided, will be posted without change at http://www.regulations.gov. Therefore, OSHA cautions individuals about submitting certain personal information such as Social Security numbers and birthdates.

FOR FURTHER INFORMATION CONTACT: For press inquiries: Mr. Frank Meilinger, OSHA, Office of Communications, Room N-3647, U.S. Department of Labor, 200 Constitution Avenue, NW., Washington, DC 20210; telephone (202) 693-1999.

For general information about ACCSH and ACCSH meetings: Mr. Francis Dougherty, OSHA, Directorate of Construction, Room N-3468, U.S. Department of Labor, 200 Constitution Avenue, NW., Washington, DC 20210; telephone (202) 693-2020; e-mail dougherty.francis@dol.gov.

SUPPLEMENTARY INFORMATION:

ACCSH Meeting

ACCSH will meet Thursday, July 28, 2011, in Washington, DC. The meeting is open to the public.

ACCSH is authorized to advise the Secretary of Labor (Secretary) and Assistant Secretary of Labor for Occupational Safety and Health (Assistant Secretary) in the formulation of standards affecting the construction industry, and on policy matters arising in the administration of the safety and health provisions under the Contract Work Hours and Safety Standards Act (Construction Safety Act) (40 U.S.C. 3701 et seq.) and the Occupational Safety and Health Act of 1970 (29 U.S.C. 651 et seq.) (see also 29 CFR 1911.10 and 1912.3).

The tentative agenda for this meeting includes:

• Welcome/Remarks from the Office of the Assistant Secretary;

• Update from the Directorate of Construction on OSHA's outreach efforts, guidance projects, and enforcement Issues.

• Update on the Injury and Illness Prevention Program rulemaking;

• Update from the Directorate of Cooperative and State Programs on OSHA's cooperative programs, including VPP, alliances and partnerships.

• Update from the Chief of Staff on OSHA's outreach efforts, including the heat-related illness campaign and outreach to vulnerable workers.

• Work Group Reports, and Work Group and Committee Administration; and

• Public Comment Period.

ACCSH meetings are transcribed and detailed minutes of the meetings are prepared. The transcript and minutes are placed in the public docket for the meeting. The docket also includes ACCSH Work Group reports, speaker presentations, comments, and other materials and requests submitted to the Committee.

ACCSH Work Group Meetings

In conjunction with the ACCSH meeting, ACCSH Work Groups will meet at the following times on Wednesday, July 27, 2011:

• Backing Operations—8 to 9:15 a.m.;

• Prevention thru Design—9:30 to 10:45 a.m.;

• Construction Health Hazards/Green Jobs—10:45 to Noon;

• Reinforcing Steel in Construction—1 to 2:15 p.m.;

• Injury and Illness Prevention Programs—2:15 to 3:30 p.m.;

• Multilingual Issues, Diversity, Women in Construction—3:45 to 5 p.m.

For additional information on ACCSH Work Group meetings or participating in them, please contact Mr. Dougherty or look on the ACCSH page on OSHA's Web page at http://www.osha.gov.

Public Participation—Submissions and Access to Public Record

ACCSH and ACCSH Work Group meetings: ACCSH and ACCSH Work Group meetings are open to the public. Individuals attending meetings at the U.S. Department of Labor must enter the building at the Visitors Entrance, at 3rd and C Streets, NW., and pass through building security. Attendees must have valid government-issued photo identification to enter the building. For additional information about building security measures for attending the ACCSH and ACCSH Work Group meetings, please contact Ms. Chatmon (see ADDRESSES section).

Individuals needing special accommodations to attend the ACCSH and ACCSH Work Group meetings also should contact Ms. Chatmon.

Submission of written comments: Interested persons may submit comments using one of the methods in the ADDRESSES section. All submissions must include the Agency name and docket number for this ACCSH meeting (Docket No. OSHA-2011-0124). OSHA will provide copies of submissions to ACCSH members.

Because of security-related procedures, submissions by regular mail may experience significant delays. For information about security procedures for submitting materials by hand delivery, express mail, messenger, or courier service, contact the OSHA Docket Office (see ADDRESSES section).

Requests to speak and speaker presentations: Individuals who want to address ACCSH at the meeting must submit their requests, and their written or electronic presentations (e.g., PowerPoint) by July 21, 2011, using one of the methods listed in the ADDRESSES section. The request must state the amount of time requested to speak, the interest the presenter represents (e.g., business, organization, affiliation), if any, and a brief outline of the presentation. PowerPoint presentations and other electronic materials must be compatible with PowerPoint 2003 and other Microsoft Office 2003 formats.

Alternately, at the ACCSH meeting, individuals may request to address ACCSH briefly by signing the public-comment request sheet and listing the topic(s) to be addressed. In addition, they must provide 20 hard copies of any materials, written or electronic, they want to present to ACCSH.

Requests to address the Committee may be granted at the ACCSH Chair's discretion and as time and circumstances permit. The Chair will give first preference to those individuals who filed speaker requests and presentations by July 21, 2011.

Public docket of the ACCSH meeting: Comments, requests to speak, and speaker presentations, including any personal information you provide, are placed in the public docket of this ACCSH meeting without change and may be available online at http://www.regulations.gov. Therefore, OSHA cautions you about submitting certain personal information such as Social Security numbers and birthdates.

The meeting transcript, meeting minutes, documents presented at the ACCSH meeting, Work Group reports, and other documents pertaining to the ACCSH meeting also are placed in the public docket, and may be available online at http://www.regulations.gov.

Access to the public record of ACCSH meetings: To read or download documents in the public docket of this ACCSH meeting, go to Docket No. OSHA-2011-0124 at http://www.regulations.gov. All documents in the public record for this meeting are listed in the http://www.regulations.gov index; however, some documents (e.g., copyrighted materials) are not publicly available through that Web page. All documents in the public record, including materials not available through http://www.regulations.gov, are available for inspection and copying in the OSHA Docket Office (see ADDRESSES section). Please contact the OSHA Docket Office for assistance making submissions to, or obtaining materials from, the public docket.

Announcement of ACCSH Appointments

The Secretary has appointed the following individuals to two-year terms on ACCSH:

Employee Representatives

• Mr. Gary L. Batykefer, Administrative Director, Sheet Metal Occupational Health Institute Trust.

• Ms. Laurie A. Shadrick, Job Safety and Health Training Specialist, United Association of Plumbers and Pipefitters.

• Mr. Erich J. (Pete) Stafford, Director, Safety and Health, Building and Construction Trades Department, AFL-CIO.

Employer Representative

• Mr. Kevin R. Cannon, Director, Safety and Health Services, Associated General Contractors of America.

• Mr. William E. Hering, Corporate Manager, Environment, Health and Safety, S.M. Electric Company, Inc.

• Mr. Thomas Marrero, Corporate Safety Manager, Zenith Systems, LLC

Public Representative

• Ms. Letitia K. Davis, Director, Occupational Health Surveillance Program, Massachusetts Department of Public Health.

State Safety and Health Agency Representatives

• Mr. Charles Stribling, OSH Federal-State Coordinator, Kentucky Labor Cabinet, Department of Work Place Standards.

The Secretary also has reappointed the following individuals to one-year appointments on ACCSH:

Employee Representatives

• Mr. Walter Jones, Associate Director, Occupational Safety and Health, The Laborers' Health and Safety Fund of North America.

• Mr. Frank L. Migliaccio, Jr., Executive Director, Safety and Health, International Association of Bridge, Structural, Ornamental and Reinforcing Iron Workers.

Employer Representatives

• Mr. Michael J. Thibodeaux, President, MJT Consulting, Inc.

• Mr. Daniel D. Zarletti, Vice President, Safety and Health, Road Safe Traffic Systems, Inc.

Public Representative

• Ms. Elizabeth Arioto, President, Elizabeth Arioto Safety and Health Consulting Services.

State Safety and Health Agency Representative

• Mr. Steven D. Hawkins, Assistant Administrator, Tennessee Occupational Safety and Health Administration.

Authority and Signature

David Michaels, PhD, M.P.H., Assistant Secretary of Labor for Occupational Safety and Health, authorized the preparation of this notice under the authority granted by Section 7 of the Occupational Safety and Health Act of 1970 (29 U.S.C. 656), Section 107 of the Contract Work Hours and Safety Standards Act (Construction Safety Act) (40 U.S.C. 3704), the Federal Advisory Committee Act (5 U.S.C. App. 2), 29 CFR Parts 1911 and 1912, 41 CFR Part 102, and Secretary of Labor's Order No. 4-2010 (75 FR 55355 (9/10/2010)).

Signed at Washington, DC on July 7, 2011.
David Michaels,
Assistant Secretary of Labor for Occupational Safety and Health.

[FR Doc. 2011-17554 Filed 7-12-11; 8:45 am]

BILLING CODE 4510-26-P